DEPARTMENT OF COMMERCE

Foreign-Trade Zones Board

[B-04-2022]

Foreign-Trade Zone (FTZ) 177—Evansville, Indiana; Authorization of Production Activity; AstraZeneca Pharmaceuticals, LP (Pharmaceutical Products); Mount Vernon, Indiana

On February 14, 2022, AstraZeneca Pharmaceuticals, LP submitted a notification of proposed production activity to the FTZ Board for its facility within FTZ Subzone 177A, in Mount Vernon, Indiana.

The notification was processed in accordance with the regulations of the FTZ Board (15 CFR part 400), including notice in the Federal Register inviting public comment (87 FR 10332-10333, February 24, 2022). On June 14, 2022, the applicant was notified of the FTZ Board's decision that no further review of the activity is warranted at this time. The production activity described in the notification was authorized, subject to the FTZ Act and the FTZ Board's regulations, including Section 400.14.

Dated: June 14, 2022.
Andrew McGilvray,
Executive Secretary.

[FR Doc. 2022-13065 Filed 6-16-22; 8:45 am]

BILLING CODE 3510-DS-P